DEPARTMENT OF AGRICULTURE

Office of the Secretary

[Docket No. APHIS-2012-0041]

Notification of Deletion of a System of Records; Automated Trust Funds Database

AGENCY: Animal and Plant Health Inspection Service, USDA.

ACTION: Notice of deletion of a system of records.

SUMMARY: In accordance with the Privacy Act of 1974, 5 U.S.C. 552a, the U.S. Department of Agriculture is giving notice that it is deleting a system of records that is no longer in use.

DATES: Effective Date: January 11, 2013.

FOR FURTHER INFORMATION CONTACT: Ms. Julie Tripp, Supervisory Accountant, International Operations and Accounting Team, Financial Operations Branch, APHIS, 100 North Sixth Street, Ste. 510 C, Minneapolis, MN 55403; (612) 336-3240.

SUPPLEMENTARY INFORMATION: On April 30, 2008, pursuant to the provisions of the Privacy Act of 1974, the U.S. Department of Agriculture (USDA) published in the Federal Register (73 FR 23414-23416, Docket No. APHIS-2008-0026) a system of records notice establishing the Automated Trust Funds (ATF) database system of records. The Federal Information Security Management Act of 2002 (44 U.S.C. 3541 et seq.), the Chief Financial Officers Act of 1990 (31 U.S.C. 101 et seq.), the Clinger-Cohen Act of 1996 (40 U.S.C. 1401(3)), and the Federal Managers' Financial Integrity Act of 1982, Public Law 97-255, provided authority for the system.

The ATF database has been replaced by USDA's Financial Management Modernization Initiative (FMMI) and is no longer in use. Information in the ATF database about cooperators who have trust fund agreements with APHIS, including company name, company address, account number and balance, as well as company contact information, including name, telephone number, and mailing address, were transferred to FMMI. All other information was destroyed. Accordingly, this notice formally terminates this system of records.

Thomas J. Vilsack,
Secretary.

[FR Doc. 2013-00440 Filed 1-10-13; 8:45 am]

BILLING CODE 3410-34-P